FEDERAL COMMUNICATIONS COMMISSION

Information Collection Approved by the Office of Management and Budget

AGENCY: Federal Communications Commission.

ACTION: Notice.

SUMMARY: The Federal Communications Commission has received Office of Management and Budget (OMB) approval for the following public information collection(s) pursuant to the Paperwork Reduction Act of 1995 (44 U.S.C. 3501-3520). An agency may not conduct or sponsor a collection of information unless it displays a currently valid OMB control number, and no person is required to respond to a collection of information unless it displays a currently valid OMB control number. Comments concerning the accuracy of the burden estimate(s) and any suggestions for reducing the burden should be directed to the person listed in the FOR FURTHER INFORMATION CONTACT section below.

FOR FURTHER INFORMATION CONTACT: Lynne Hewitt Engledow, Wireline Competition Bureau, Pricing Policy Division at 202-418-1520 or e-mail at lynne.engledow@fcc.gov.

SUPPLEMENTARY INFORMATION: OMB Control Number: 3060-0470.

OMB Approval Date: June 23, 2011.

Expiration Date: June 30, 2014.

Title: Section 64.901, Allocation of Cost; Section 64.903, Cost Allocation Manuals; and RAO Letters 19 and 26.

Form Number: N/A.

Estimated Annual Burden: 2 responses; 200 hours per response; 400 hours total per year.

Obligation to Respond: Required to obtain or retain benefits. Statutory authority for this information collection is contained in 47 U.S.C. 151, 154, 201 -205, 215, and 218 -220.

Nature and Extent of Confidentiality: The Commission is not requesting that respondents submit confidential information to the Commission. Respondents who believe certain information to be of a proprietary nature may solicit confidential treatment in accordance with the procedures described in 47 CFR 0.459.

Needs and Uses: The Commission has received three-year approval for a revision to information collection 3060-0470. The Commission revised the information collection to decrease the number of respondents as a result of a Commission order granting numerous carriers forbearance from compliance to the relevant rules. Specifically, in a Memorandum Opinion and Order in WC Docket No. 07-21 (FCC 08-120) the Commission forbore from many of its cost allocation rules as they apply to the former Bell Operating Companies (BOCs). Therefore, there are fewer respondents affected by the requirements of these rule sections. The decrease in respondents also caused a decrease in the hour burden for this information collection.

Section 64.901 requires carriers to separate their regulated costs from non-regulated costs using the attributable cost method of cost allocation. Carriers must follow the principles described in section 64.901. Carriers subject to section 64.901 are also subject to the provisions of 47 CFR sections 32.23 and 32.27 of the Commission's rules. Section 64.903(a) requires each local exchange carrier with annual operating revenues that equal or exceed the indexed revenue threshold, as defined in 47 CFR section 32.9000, to file with the Commission a manual containing information regarding its allocation of costs between regulated and non-regulated activities. Section 64.903(b) requires that carriers update their cost allocation manuals (CAMs) at least annually; except that changes to the cost apportionment table and the description of time reporting procedures must be filed at the time of implementation. Proposed changes in the description of time reporting procedures, the statement concerning affiliate transactions, and the cost apportionment table must be accompanied by a statement quantifying the impact of each change on regulated operations. Changes in the description of time reporting procedures and the statement concerning affiliate transactions must be quantified in $100,000 increments at the account level. Changes in the cost apportionment table must be quantified in $100,000 increments at the cost pool level.

Moreover, filing of CAMs and occasional updates are subject to the uniform format and standard procedures specified in Responsible Accounting Officer (RAO) Letter 19. RAO Letter 26 provides guidance to carriers in revising their CAMs to reflect changes to the affiliate transactions rules pursuant to the Accounting Safeguards Order (FCC 96-490). The CAM is reviewed by the Commission to ensure that all costs are properly classified between regulated and nonregulated activity. Uniformity in the CAMs helps improve the joint cost allocation process. In addition, this uniformity gives the Commission greater reliability in financial data submitted by the carriers through the Automated Reporting Management Information System (ARMIS).

Federal Communications Commission.
Marlene H. Dortch,
Secretary, Office of the Secretary, Office of Managing Director.

[FR Doc. 2011-17028 Filed 7-6-11; 8:45 am]

BILLING CODE 6712-01-P